ENVIRONMENTAL PROTECTION AGENCY

[EPA-HQ-OAR-2018-0003; FRL-9977-41-OAR]

Protection of Stratospheric Ozone: Notice of Data Availability; Information Concerning HCFC-123 and HCFC-124 Production, Consumption, and Use

AGENCY: Environmental Protection Agency (EPA).

ACTION: Notice of data availability.

SUMMARY: Today's notice announces the availability of The U.S. Phaseout of HCFCs: Projected Servicing Demand in the U.S. Air Conditioning, Refrigeration, and Fire Suppression Sectors (2020-2030). The draft document is an update to reports EPA has issued in the past, such as The U.S. Phaseout of HCFCs: Projected Servicing Needs in the U.S. Air Conditioning, Refrigeration, and Fire Suppression Sectors Updated for 2015 to 2025, most recently issued in 2014. This document contains information that revises estimates of potential future market demand for HCFC-123 and HCFC-124 based on current uses in air-conditioning, refrigeration, and fire suppression equipment and considers the availability of recovered HCFCs. This information may be relevant to an upcoming rulemaking regarding allowances for consumption and production of HCFC-123 and HCFC-124 for the 2020-2029 regulatory period. Comments submitted in response to today's Notice of Data Availability (NODA) may be used as the Agency prepares for that rulemaking.

DATES: Comments must be submitted on or before June 18, 2018.

ADDRESSES: Submit your comments, identified by Docket ID No. EPA-HQ-OAR-2018-0003, at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Katherine Sleasman, Stratospheric Protection Division, (6205T), Environmental Protection Agency, 1200 Pennsylvania Ave. NW, Washington, DC 20460; telephone number: (202) 564-7716; fax number: (202) 343-2362; email address: sleasman.katherine@epa.gov.

SUPPLEMENTARY INFORMATION:

I. General Information

A. Does this action apply to me?

This notice announces the availability of data and analysis relevant to the production, consumption, and use of HCFC-123 and HCFC-124. This notice of data availability may be of interest to:

• Air-Conditioning and Warm Air Heating Equipment and Commercial and Industrial Refrigeration Equipment Manufacturing entities (NAICS code 333415)

• Air-Conditioning Equipment and Supplies Merchant Wholesalers (NAICS code 423620)

• Fire Extinguisher Chemical Preparations Manufacturing (NAICS code 325998)

• Industrial Gas Manufacturing (NAICS code 325120)

• Materials Recovery Facilities (NAICS code 562920)

• Other Aircraft Parts and Auxiliary Equipment Manufacturing (NAICS code 336413)

• Other Chemical and Allied Production Merchant Wholesalers (NAICS code 424690)

• Plumbing, Heating, and Air-Conditioning Contractors (NAICS code 238220)

• Portable Fire Extinguishers Manufacturing (NAICS code 339999)

This list is not intended to be exhaustive, but rather provides a guide for readers regarding entities likely to be interested in this notice.

II. What data are available?

EPA is announcing the availability of a draft report, The U.S. Phaseout of HCFCs: Projected Servicing Demand in the U.S. Air Conditioning, Refrigeration and Fire Suppression Sectors (2020-2030), in docket EPA-HQ-OAR-2018-0003. The information gathered and presented in the report concerns the end-uses in air conditioning and refrigeration as well as fire suppression sectors that currently use HCFC-123 and HCFC-124. Readers should note that EPA will only consider comments about the information presented in The U.S. Phaseout of HCFCs: Projected Servicing Demand in the U.S. Air Conditioning, Refrigeration, and Fire Suppression Sectors (2020-2030) and is not soliciting comments on any other topic.

A. How does this relate to the HCFC phaseout schedule?

Section 605 of the Clean Air Act addresses the production, consumption, use, and introduction into interstate commerce of class II controlled substances (listed HCFCs) within the United States. Sections 605 and 606 taken together constitute the primary source of authority for the domestic implementation of U.S. obligations to phase out HCFCs under the Montreal Protocol on Substances that Deplete the Ozone Layer (Montreal Protocol). EPA regulations issued under sections 605 and 606 appear at 40 CFR part 82 Subpart A. Those regulations reflect the agreed Montreal Protocol HCFC phaseout schedule. One element of that phaseout schedule is a commitment to phase out HCFC production and consumption by January 1, 2020, other than production and consumption during the years 2020-2029 for the servicing of air-conditioning and refrigeration equipment existing on January 1, 2020, in an amount up to 0.5% of baseline annually. See Montreal Protocol Article 2F. Consistent with that schedule, Subpart A prohibits most production and import of HCFCs as of January 1, 2020, while preserving the possibility of limited production and import of certain HCFCs for the servicing of air-conditioning and refrigeration equipment manufactured before that date. See 40 CFR 82.16.

Subpart A prohibits the production and import of class II controlled substances without allowances. 40 CFR 82.15(a), (b). EPA has issued rules allocating HCFC production and consumption allowances for specified regulatory periods. In 2014, EPA issued a rule titled “Adjustments to the Allowance System for Controlling HCFC Production, Import and Export, 2015-2019” (79 FR 64254), which allocated chemical-specific production and consumption allowances for each year of the 2015-2019 regulatory period. Information concerning the production, consumption, and use of HCFC-123 and HCFC-124 may be relevant to a rulemaking to address the HCFC phaseout in 2020 and beyond. Prior to use of the information in the draft report to support a proposed rule, EPA is providing the public with an opportunity to review and comment on that information.

B. What should I consider as I prepare my comments for EPA?

EPA is seeking comment on the accuracy of the data and analysis presented in the draft report. Based on feedback, EPA intends to revise the report and release an updated version at the same time the agency issues a proposed rule governing the 2020-2029 regulatory period.

You may find the following suggestions helpful for preparing your comments: Explain your views as clearly as possible; describe any assumptions that you used; provide any technical information or data you used that support your views; provide specific examples to illustrate your concerns; offer alternatives; and make sure to submit your comments by the comment period deadline identified. Please provide any published studies or raw data supporting your position. As noted previously, CBI should not be submitted through www.regulations.gov. Please work with the person listed in the FOR FURTHER INFORMATION CONTACT section if submitting a comment containing CBI.

Dated: April 30, 2018.
Sarah Dunham,
Director, Office of Atmospheric Programs.

[FR Doc. 2018-09557 Filed 5-3-18; 8:45 am]

BILLING CODE 6560-50-P